DEPARTMENT OF COMMERCE

National Oceanic and Atmospheric Administration

RIN 0648-XB07

Marine Mammals; File No. 782-1719

AGENCY: National Marine Fisheries Service (NMFS), National Oceanic and Atmospheric Administration (NOAA), Commerce.

ACTION: Notice; issuance of permit amendment.

SUMMARY: Notice is hereby given that the National Marine Mammal Laboratory (NMML), Alaska Fisheries Science Center, (Dr. John L. Bengston, Principal Investigator), 7600 Sand Point Way, NE., Seattle, Washington 98115-6349 has been issued an amendment to scientific research Permit No. 782-1719-04.

ADDRESSES: The amendment and related documents are available for review upon written request or by appointment in the following office(s): SEE SUPPLEMENTARY INFORMATION

FOR FURTHER INFORMATION CONTACT: Amy Hapeman or Carrie Hubard, (301)713-2289.

SUPPLEMENTARY INFORMATION: On March 7, 2007, notice was published in the Federal Register (72 FR 10169) that an amendment to Permit No. 782-1719, issued June 30, 2004 (69 FR 44514), had been requested by the above-named organization. The requested amendment has been granted under the authority of the Marine Mammal Protection Act of 1972, as amended (16 U.S.C. 1361 et seq.) and the regulations governing the taking and importing of marine mammals (50 CFR part 216).

Permit No. 782-1719-05 authorizes NMML to take species of cetaceans under NMFS jurisdiction during stock assessment activities throughout U.S. territorial waters and the high seas of the North Pacific Ocean, Southern Ocean, and Arctic Ocean. The permit authorizes Level B harassment during close approach for aerial surveys, vessel-based surveys, observations, and photo-identification and Level A harassment during biopsy sampling and attachment of scientific instruments. This amendment increases the authorized number of takes for biopsy sampling and tagging of gray whales (Eschrichtius robustus) and non-ESA-listed killer whales (Orcinus orca) as well as the takes during close approach for aerial and vessel surveys, photo-identification, tagging, and biopsy sampling of non-endangered dwarf sperm whales (Kogia breviceps), pantropical spotted dolphin (Stenella attenuata), pygmy sperm whales (Kogia simus), rough-toothed dolphins (Steno bredanensis), Hawaii spinner dolphins (Stenella longirostris), striped dolphins (Stenella coeruleoalba), and melon-headed whales (Peponocephala electra) in the North Pacific Ocean. The amended permit is valid until the permit expires on June 30, 2009.

In compliance with the National Environmental Policy Act of 1969 (42 U.S.C. 4321 et seq.), an environmental assessment was prepared analyzing the effects of the permitted activities. After a Finding of No Significant Impact, the determination was made that it was not necessary to prepare an environmental impact statement.

Documents may be reviewed in the following locations:

Permits, Conservation and Education Division, Office of Protected Resources, NMFS, 1315 East-West Highway, Room 13705, Silver Spring, MD 20910; phone (301)713-2289; fax (301)427-2521;

Northwest Region, NMFS, 7600 Sand Point Way NE., BIN C15700, Bldg. 1, Seattle, WA 98115-0700; phone (206)526-6150; fax (206)526-6426;

Alaska Region, NMFS, P.O. Box 21668, Juneau, AK 99802-1668; phone (907)586-7221; fax (907)586-7249;

Southwest Region, NMFS, 501 West Ocean Blvd., Suite 4200, Long Beach, CA 90802-4213; phone (562)980-4001; fax (562)980-4018; and

Pacific Islands Region, NMFS, 1601 Kapiolani Blvd., Rm 1110, Honolulu, HI 96814-4700; phone (808)973-2935; fax (808)973-2941.

Dated: August 3, 2007.
Tammy C. Adams,
Acting Chief, Permits, Conservation and Education Division, Office of Protected Resources, National Marine Fisheries Service.

[FR Doc. E7-15683 Filed 8-9-07; 8:45 am]

BILLING CODE 3510-22-S